AGENCY FOR INTERNATIONAL DEVELOPMENT

USAID COVID-19 Performance Monitoring

AGENCY: United States Agency for International Development (USAID).

ACTION: Notice of request for emergency OMB approval.

SUMMARY: In accordance with the emergency review procedures of the Paperwork Reduction Act of 1995 (PRA), the United States Agency for International Development (USAID), is announcing that it has submitted a request to the Office of Management and Budget (OMB) for emergency approval of a new information collection to inform technical approaches to implementing USAID's COVID-19 Implementation Plan. If granted, this emergency approval will be valid for six months from the date of approval.

DATES: If this request for approval is granted, USAID plans to collect performance data for a period of six months, beginning on or about December 15, 2022.

FOR FURTHER INFORMATION CONTACT: Requests for additional information should be directed to Megan McGuire, mmcguire@usaid.gov, +1 (202) 705 6136.

SUPPLEMENTARY INFORMATION: The proposed collection would request reporting from USAID award recipients (Implementing Partners) of performance indicators to be submitted through USAID's Development Information Solution (DIS) on the frequency designated in their awards. This activity-level information, in conjunction with contextual data, will allow USAID to track progress against the objectives of the U.S. Global COVID-19 Response and Recovery Framework. It will be used for adaptive management, evidence-based strategic decision-making, and accountability. Information will be requested of contracts and grants in the Global VAX surge countries (Angola, Côte d'Ivoire, Eswatini, Ghana, Lesotho, Nigeria, Senegal, South Africa, Tanzania, Uganda, and Zambia) and for contracts and grants receiving more than $500,000 in COVID-19 funds obligated after 9/1/2022 in Ethiopia, Liberia, Madagascar, Malawi, Mozambique, Haiti and the Philippines.

Description of Proposed Use of Information

The performance data would supplement contextual, country-level data currently analyzed by USAID and will provide critical, timely insight into the Agency's COVID-19 response. The collection and reporting of performance indicators by USAID's IPs will facilitate adaptive management, strategic planning, and ensure that COVID-10 response activities are continually aligned with the Agency's primary objectives and the evolving nature of the pandemic. The data will inform the strategic and operational approaches of both the Agency's Washington offices and field-based Missions involved in the COVID-19 response.

Time Burden

USAID estimates an annual time burden of 333 hours per award or 83 hours per response, assuming most awards report on a quarterly basis. USAID expects that a total of 41 awards will be subject to the information collection requirements; for these awards, the time burden is expected to total 13,653 hours per year, or 6,827 hours for the six-month period specified in the emergency information collection review.

Beth Tritter,
Director, USAID COVID-19 Response Team.

[FR Doc. 2022-26618 Filed 12-7-22; 8:45 am]

BILLING CODE 6116-01-P